DEPARTMENT OF JUSTICE

Antitrust Division

Notice Pursuant to the National Cooperative Research and Production Act of 1993—Halon Alternatives Research Corporation, Inc.

Notice is hereby given that, on March 2, 2015, pursuant to section 6(a) of the National Cooperative Research and Production Act of 1993, 15 U.S.C. 4301 et seq. (“the Act”), Halon Alternatives Research Corporation, Inc. (“HARC”) has filed written notifications simultaneously with the Attorney General and the Federal Trade Commission disclosing changes in its membership. The notifications were filed for the purpose of extending the Act's provisions limiting the recovery of antitrust plaintiffs to actual damages under specified circumstances. Specifically, A-Gas RemTec, Bowling Green, OH; American Pacific Corporation, Las Vegas, NV; BP Exploration Alaska Inc., Anchorage, AK; ConocoPhillips Co., Anchorage, AK; Chemours Company LLC, Wilmington, DE; Fire Suppression System Association, Baltimore, MD; Haven Fire and Safety LLC, Dubai, UNITED ARAB EMIRATES; Meggitt PLC, Dorset, UNITED KINGDOM; Orient Corporation, Cranford, NJ; SEVO Systems, Lenexa, KS; Tyco Fire Protection Products, Marinette, WI; UTC Aerospace Systems, Arlington, VA; Waysmos USA Inc., Austin, TX; and Wesco, Metuchen, NJ, have been added as parties to this venture.

Also, British Airways, Harmondsworth, UNITED KINGDOM; Chemtura Corporation, Middlebury, CT; DuPont Chemicals & Fluoroproducts, Wilmington, DE; Eurotunnel PLC, London, UNITED KINGDOM; Fire Protection Systems, Inc., Washington Crossing, PA; Gielli di Luigi Galantucci, Altarnura, ITALY; Global Safety Labs, Tulsa, OK; Great Lakes Chemical Corporation, West Lafayette, IN; Halon Banking System, St. Paul, MN; Heien-Larssen AS, Spikkestad, NORWAY; Honeywell, Buffalo, NY; Hughes Aircraft Company, Los Angeles, CA; Metalcraft, Inc., Baltimore, MD; Minimax USA, Inc., Mesa, AZ; Modular Protection Group, Lenexa, KS; NAFED, Chicago, IL; Powsus, Inc., Fort Pierce, FL; and Superior Safety Inc., Ontario, CANADA, have withdrawn as parties to this venture.

No other changes have been made in either the membership or planned activity of the group research project. Membership in this group research project remains open, and HARC intends to file additional written notifications disclosing all changes in membership.

On February 7, 1990, HARC filed its original notification pursuant to section 6(a) of the Act. The Department of Justice published a notice in the Federal Register pursuant to section 6(b) of the Act on March 7, 1990 (55 FR 8204).

The last notification was filed with the Department on January 18, 2011. A notice was published in the Federal Register pursuant to section 6(b) of the Act on February 22, 2011 (76 FR 9812).

Patricia A. Brink,
Director of Civil Enforcement, Antitrust Division.

[FR Doc. 2015-10031 Filed 4-29-15; 8:45 am]

BILLING CODE 4410-11-P